DEPARTMENT OF ENERGY

Environmental Management Site-Specific Advisory Board, Oak Ridge

AGENCY: Office of Environmental Management, Department of Energy.

ACTION: Notice of open meeting.

SUMMARY: This notice announces an in-person/virtual hybrid meeting of the Environmental Management Site-Specific Advisory Board (EM SSAB), Oak Ridge. The Federal Advisory Committee Act requires that public notice of this meeting be announced in the Federal Register.

DATES: Wednesday, June 14, 2023; 6:00 p.m.-8:00 p.m. EDT.

ADDRESSES: This hybrid meeting will be in-person at the Department of Energy (DOE) Information Center (address below) and virtually via Zoom. To provide a safe meeting environment, seating may be limited. To attend virtually or to register for in-person attendance, please send an email to: orssab@orem.doe.gov by 5:00 p.m. EDT on Wednesday, June 7, 2023.

Board members, DOE representatives, agency liaisons, and Board support staff will participate in-person, following COVID-19 precautionary measures, at: DOE Information Center, Office of Science and Technical Information, 1 Science.gov Way, Oak Ridge, Tennessee 37831.

Attendees should check the website listed below for any meeting format changes due to COVID-19 protocols.

FOR FURTHER INFORMATION CONTACT: Melyssa P. Noe, Deputy Designated Federal Officer, U.S. Department of Energy, Oak Ridge Office of Environmental Management (OREM), P.O. Box 2001, EM-942, Oak Ridge, TN 37831; Phone (865) 241-3315; or email: Melyssa.Noe@orem.doe.gov. Or visit the website at www.energy.gov/orssab.

SUPPLEMENTARY INFORMATION:

Purpose of the Board: The purpose of the Board is to make recommendations to DOE-EM and site management in the areas of environmental restoration, waste management, and related activities.

Tentative Agenda:

• Comments from the Deputy Designated Federal Officer (DDFO)

• Comments from DOE, Tennessee Department of Environment and Conservation, and Environmental Protection Agency liaisons

• Presentation

• Public Comment Period

• Motions/Approval of May 10, 2023 Meeting Minutes

• Status of Outstanding Recommendations

• Subcommittee Reports

Public Participation: This meeting is open to the public. The EM SSAB, Oak Ridge, welcomes the attendance of the public at its advisory committee meetings and will make every effort to accommodate persons with physical disabilities or special needs. If you require special accommodations due to a disability, please contact Melyssa P. Noe at least seven days in advance of the meeting at the phone number listed above. Written statements may be filed with the Board via email either before or after the meeting. Public comments received by no later than 5:00 p.m. EDT on Wednesday, June 7, 2023, will be read aloud during the meeting. Comments will be accepted after the meeting, by no later than 5:00 p.m. EDT on Monday, June 19, 2023. Please submit comments to orssab@orem.doe.gov. Please put “Public Comment” in the subject line. Individuals who wish to make oral statements should contact Melyssa P. Noe at the email address or telephone number listed above. Requests must be received five days prior to the meeting and reasonable provision will be made to include the presentation in the agenda. The Deputy Designated Federal Officer is empowered to conduct the meeting in a fashion that will facilitate the orderly conduct of business. Individuals wishing to submit written public comments should email them as directed above. Individuals wishing to make public comments will be provided a maximum of five minutes to present their comments.

Minutes: Minutes will be available by emailing or calling Melyssa P. Noe at the email address and telephone number listed above. Minutes will also be available at the following website: https://www.energy.gov/orem/listings/oak-ridge-site-specific-advisory-board-meetings.

Signed in Washington, DC, on May 17, 2023.
LaTanya Butler,
Deputy Committee Management Officer.

[FR Doc. 2023-10863 Filed 5-19-23; 8:45 am]

BILLING CODE 6450-01-P